DEPARTMENT OF TRANSPORTATION

Federal Aviation Administration

14 CFR part 25

[Docket No. FAA-2014-1079; Notice No. 25-15-01-SC]

Special Conditions: Gulfstream Model GVII Series Airplanes; Limit Pilot Forces for Side-Stick Controller

AGENCY: Federal Aviation Administration (FAA), DOT.

ACTION: Notice of proposed special conditions.

SUMMARY: This action proposes special conditions for the Gulfstream Model GVII-G500 (GVII series) airplanes. These airplanes will have a novel or unusual design feature when compared to the state of technology envisioned in the airworthiness standards for transport-category airplanes.

This design feature is associated with side-stick controllers that require limited pilot force because they are operated by one hand only. The applicable airworthiness regulations do not contain adequate or appropriate safety standards for this design feature. These proposed special conditions contain the additional safety standards that the Administrator considers necessary to establish a level of safety equivalent to that established by the existing airworthiness standards.

DATES: Send your comments on or before April 13, 2015.

ADDRESSES: Send comments identified by docket number FAA-2014-1079 using any of the following methods:

• Federal eRegulations Portal: Go to http://www.regulations.gov/ and follow the online instructions for sending your comments electronically.

• Mail: Send comments to Docket Operations, M-30, U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov/, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov/.

Docket: Background documents or comments received may be read at http://www.regulations.gov/ at any time. Follow the online instructions for accessing the docket or go to Docket Operations in Room W12-140 of the West Building Ground Floor at 1200 New Jersey Avenue SE., Washington, DC, between 9 a.m. and 5 p.m., Monday through Friday, except Federal holidays.

FOR FURTHER INFORMATION CONTACT: Todd Martin, FAA, Airframe and Cabin Safety Branch, ANM-115, Transport Airplane Directorate, Aircraft Certification Service, 1601 Lind Avenue SW., Renton, Washington, 98057-3356; telephone 425-227-1178; facsimile 425-227-1320.

SUPPLEMENTARY INFORMATION:

Comments Invited

We invite interested people to take part in this rulemaking by sending written comments, data, or views. The most helpful comments reference a specific portion of the proposed special conditions, explain the reason for any recommended change, and include supporting data.

We will consider all comments we receive by the closing date for comments. We may change these special conditions based on the comments we receive.

Background

On March 29, 2012, Gulfstream Aerospace applied for a type certificate for their new Model GVII-G500 airplane.

The Model GVII series airplanes are large-cabin business jets capable of accommodating up to 19 passengers. The GVII series will certify a base configuration GVII-G500, which incorporates a low, swept-wing design with winglets and a T-tail. The airplanes have two aft-fuselage-mounted Pratt & Whitney turbofan engines. Avionics include four primary display units and multiple touchscreen controllers. The flight-control system is a three-axis, fly-by-wire system using active control/coupled side sticks.

The GVII-G500 has a wingspan of 87 ft and a length of 91 ft. Maximum takeoff weight is 76,850 lbs. Maximum takeoff thrust is 15,135 lbs, maximum range is 5,000 nautical miles (nm), and maximum operating altitude is 51,000 ft.

The Model GVII series airplanes are equipped with two side-stick controllers instead of the conventional control columns and wheels. This side-stick controller is designed for one-hand operation. The requirement of Title 14, Code of Federal Regulations (14 CFR) 25.397(c), which defines limit pilot forces and torques for conventional wheel or stick controls, is not adequate for a side-stick controller. Special conditions are necessary to specify the appropriate loading conditions for this controller design.

Type-Certification Basis

Under 14 CFR 21.17, Gulfstream must show that the Model GVII-G500 airplanes meet the applicable provisions of 14 CFR part 25, as amended by Amendments 25-1 through 25-137.

The certification of the GVII-G500 airplane is 14 CFR part 25, effective February 1, 1965, including Amendments 25-1 through 25-137; 14 CFR part 34, as amended by Amendments 34-1 through the most current amendment at the time of design approval; and 14 CFR part 36, Amendment 36-29. In addition, the certification basis includes special conditions and equivalent-safety findings related to the flight-control system.

If the Administrator finds that the applicable airworthiness regulations (i.e., 14 CFR part 25) do not contain adequate or appropriate safety standards for the Model GVII series airplanes because of a novel or unusual design feature, special conditions are prescribed under § 21.16.

Special conditions are initially applicable to the model for which they are issued. Should the type certificate for that model be amended later to include any other model that incorporates the same novel or unusual design feature, these special conditions would also apply to the other model under § 21.101.

In addition to the applicable airworthiness regulations and proposed special conditions, the Model GVII series airplanes must comply with the fuel-vent and exhaust-emission requirements of 14 CFR part 34, and the noise certification requirements of 14 CFR part 36. The FAA must issue a finding of regulatory adequacy under § 611 of Public Law 92-574, the “Noise Control Act of 1972.”

The FAA issues special conditions, as defined in 14 CFR 11.19, under § 11.38, and they become part of the type-certification basis under § 21.17(a)(2) for new type certificates, and § 21.101 for amended type certificates.

Novel or Unusual Design Features

The Gulfstream Model GVII series airplanes will incorporate the following novel or unusual design feature:

A side-stick controller for one-hand operation requiring wrist motion only, not arms.

Discussion

Current regulations reference pilot-effort loads for the flight deck pitch-and-roll controls that are based on two-handed effort. Special conditions are being proposed for Gulfstream GVII series airplanes based on similar airplane programs that include side-stick controllers. These proposed special conditions are also appropriate for the Model GVII series airplane's side-stick controller.

These proposed special conditions contain the additional safety standards that the Administrator considers necessary to establish a level of safety equivalent to that established by the existing airworthiness standards.

Applicability

As discussed above, these proposed special conditions apply to Gulfstream Model GVII series airplanes. Should Gulfstream apply later for a change to the type certificate to include another model incorporating the same novel or unusual design feature, these proposed special conditions would apply to that model as well.

Conclusion

This action affects only certain novel or unusual design features on the Gulfstream Model GVII series airplanes. It is not a rule of general applicability.

List of Subjects in 14 CFR part 25

Aircraft, Aviation safety, Reporting and recordkeeping requirements.

The authority citation for these proposed special conditions is as follows:

Authority: 49 U.S.C. 106(g), 40113, 44701, 44702, 44704.

The Proposed Special Conditions

Accordingly, the Federal Aviation Administration (FAA) proposes the following special conditions in lieu of § 25.397(c):

For the Gulfstream Model GVII series airplanes equipped with side-stick controls designed for forces to be applied by one wrist and not arms, the limit pilot forces are as follows.

1. For all components between and including the side-stick control-assembly handle and its control stops:

Pitch | Roll
Nose up, 200 lbf | Nose left, 100 lbf.
Nose down, 200 lbf | Nose right, 100 lbf.

2. For all other components of the side-stick control assembly, but excluding the internal components of the electrical sensor assemblies, to avoid damage to the control system as the result of an in-flight jam:

Pitch | Roll
Nose up, 125 lbf | Nose left, 50 lbf.
Nose down, 125 lbf | Nose right, 50 lbf.

Issued in Renton, Washington, on February 19, 2015.
John J. Piccola, Jr.,
Acting Manager, Transport Airplane Directorate, Aircraft Certification Service.

[FR Doc. 2015-03968 Filed 2-25-15; 8:45 am]

BILLING CODE 4910-13-P